FEDERAL TRADE COMMISSION

[File No. R207009]

16 CFR Part 4

Petition for Rulemaking of NetChoice et al.; Correction

AGENCY: Federal Trade Commission.

ACTION: Receipt of petition; correction.

SUMMARY: The Federal Trade Commission (“Commission”) published a document in the Federal Register of March 3, 2022, concerning the receipt from and request for comments on a petition for rulemaking by NetChoice, Americans for Prosperity, Hispanic Leadership Fund, Innovation Economy Institute, Institute for Policy Innovation, James Madison Institute, National Taxpayers Union, R Street Institute, and Young Voices. The document contained an incorrect subject heading. The Commission is issuing this correction to provide the correct subject heading.

FOR FURTHER INFORMATION CONTACT: Daniel Freer (phone: 202-326-2663, email: dfreer@ftc.gov), Office of the Secretary, Federal Trade Commission, 600 Pennsylvania Avenue NW, Washington, DC 20580.

SUPPLEMENTARY INFORMATION:

Correction

In FR Doc. 2022-04489 appearing at 87 FR 12003 in the Federal Register of Thursday, March 3, 2022, on page 12003, at the top of the second column, change the subject heading to read [Petition for Rulemaking of NetChoice et al.] as set forth above. The initial subject heading of [Petition for Rulemaking of Institute for Policy Integrity] was incorrect.

Dated: March 4, 2022.
April J. Tabor,
Secretary.

[FR Doc. 2022-04986 Filed 3-9-22; 8:45 am]

BILLING CODE 6750-01-P